DEPARTMENT OF TRANSPORTATION

Federal Aviation Administration

Notice Before Waiver With Respect to Land at New Kent County Airport, Quinton, Virginia

AGENCY: Federal Aviation Administration (FAA), DOT.

ACTION: Notice of intent of waiver with respect to land.

SUMMARY: The FAA is publishing notice of proposed release of 0.027 acres of land at the New Kent County Airport, New Kent County, Virginia to the Virginia Department of Transportation for the Improvement of Virginia Route 676. There are no impacts to the Airport and the land is not needed for airport development as shown on the Airport Layout Plan. Fair Market Value of the land will be paid to the Airport Sponsor, and used for Airport purposes.

DATES: Comments must be received on or before July 17, 2000.

ADDRESSES: Comments on this application may be mailed or delivered in triplicate to the FAA at the following address: Terry J. Page, Manager, FAA Washington Airports District Office, P.O. Box 16780, Washington, DC 20041-6780.

In addition, one copy of any comments submitted to the FAA must be mailed or delivered to Michael St. Jean, Manager, New Kent County Airport, at the following address: Michael St. Jean, Airport Manager, New Kent County, P.O. Box 50, New Kent, Virginia 23124.

FOR FURTHER INFORMATION CONTACT: Mr. Terry Page, Manager, Washington Airports District Office, P.O. Box 16780, Washington, DC 20041-6780; telephone (703) 661-1354, fax (703) 661-1370, email Terry.Page@faa.gov.

SUPPLEMENTARY INFORMATION: On April 5, 2000, new authorizing legislation became effective. That bill, the Wendell H. Ford Aviation investment and Reform Act for the 21st Century, Public Law 10-181 (Apr. 5, 2000; 114 Stat. 61) (AIR 21) requires that a 30 day public notice must be provided before the Secretary may waive any condition imposed on an interest in surplus property.

Issued in Chantilly, Virginia, on May 30, 2000.
Terry J. Page,
Manager, Washington Airports District Office, Eastern Region.

[FR Doc. 00-15213 Filed 6-15-00; 8:45 am]

BILLING CODE 4910-13-M